DEPARTMENT OF HOUSING AND URBAN DEVELOPMENT

[Docket No. FR-4909-N-01]

Notice of Proposed Information Collection for Public Comment on the Evaluation of the Welfare to Work Voucher Program, Follow-on Survey Data Collection

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: March 15, 2004.

ADDRESSES: Interested persons are invited to submit comments regarding this proposal. Comments should refer to the proposal by name and should be sent to: Reports Liaison Officer, Office of Policy Development and Research, Department of Housing and Urban Development, 451 7th Street, SW., Room 8226, Washington, DC 20410.

FOR FURTHER INFORMATION CONTACT: Paul Dornan at 202-708-0614 ext. 4486 for copies of the proposed data collection instruments and other available documents.

SUPPLEMENTARY INFORMATION: The Department will submit the proposed information collection to OMB for review, as required by the Paperwork Reduction Act of 1995 (44 U.S.C. Chapter 35, as amended).

The Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Mininize the burden of the collection of information on those who are to respond; including through the use of appropriate automated collection techniques or other forms of information technology, e.g., permitting electronic submission of responses.

This Notice also lists the following information:

Title of Proposal: Evaluation of the Welfare to Work Voucher Program, Follow-on Survey Data Collection.

Description of the need for the information and proposed use: The fundamental goal of this evaluation is to assess the impacts of receiving a Welfare to Work voucher on improving the housing locations of families with children, on their obtaining and retaining employment, on their levels of welfare dependency, and on the well-being of their children. To assess these program impacts, a large body of data has been collected from a variety of administrative sources, and additional information will be collected using the follow-on survey.

The evaluation assesses impacts in five primary areas that may be affected by receiving a housing voucher:

• Housing assistance and services;

• Employment and earnings;

• Income, benefits, and food security;

• Housing mobility and neighborhood environment; and

• Household composition, family, and child well being.

It is important to distinguish between the analysis that will be conducted using administrative files and Census data and the analysis that requires follow-on survey data. Many of the outcomes of interest can be measured only through participant surveys. These survey-measured outcomes include important dimensions of adult and child well-being, such as receipt of education and training, family health, children's educational outcomes, household composition and family formation, and families' satisfaction with their neighborhoods. Participant surveys also allow researchers to investigate details about the employment experience not available from administrative records including job quality (hours worked per week, hourly wages, fringe benefits); job location; methods of job search; and barriers to employment.

The proposed survey data collection will offer powerful new evidence concerning the effects of tenant-based rental assistance on the self-sufficiency and well being of low-income families.

The experimental design used in the evaluation enables one to draw rigorous inferences about the effects of housing vouchers on family well-being, independent of all other factors affecting the lives of program participants. Random assignment serves to assure that the treatment and control groups are well matched on both observed and unobserved characteristics at the time of their entry into the study. It thus establishes the strongest possible foundation for understanding whether housing vouchers can assist welfare families in achieving greater financial independence or otherwise improving their lives.

This study and its survey component are especially timely in light of federal and state changes in welfare policies over the past decade, reducing the numbers of families eligible for public assistance and limiting the time period over which they can receive benefits. Housing vouchers may help low-income families become employed and may also help them meet financial needs as they transition from welfare.

The planned follow-on survey, in conjunction with an analysis of outcomes derived from Census data and administrative sources, will capture the experiences of treatment and control group members over a period of approximately four years. A follow-up interval of this length is important to measuring the impact of vouchers, as the typical length of stay in vouchers is three years, and the effects of a voucher on family well-being may take time to emerge.

Members of affected public: Individuals and households that applied to participate in the Welfare-to-Work voucher program in the six evaluation sites (Atlanta and Augusta, Georgia; Fresno and Los Angeles, California: Houston, Texas; and Spokane, Washington) will be interviewed as part of this data collection effort.

Estimation of the total numbers of hours needed to prepare the information collection including number of respondents, frequency of response, and hours of response:

Interview respondent | Number of respondents | Time to complete (minutes) | Frequency (per respondent) | Total burden (hours)
Adult head of core household | 3,900 | 30 | 1 | 1,950
Adult head of core household, responses regarding 2 children | 2,613 | 7 | 2 | 610
Adult head of core household, responses regarding 1 children | 1,170 | 7 | 1 | 137
Total | 3,900 | 41 | 1 | 2,697

States of the proposed information collection: Pending OMB approval.

Authority: Section 3506 of the Paperwork Reduction Act of 1995, 44 U.S.C. Chapter 35, as amended.

Dated: January 2, 2004.
Darlene F. Williams,
General Deputy, Assistant Secretary for Policy Development and Research.

[FR Doc. 04-606 Filed 1-12-04; 8:45 am]

BILLING CODE 4210-62-M